DEPARTMENT OF COMMERCE

National Oceanic and Atmospheric Administration

50 CFR Part 300

[Docket No. 190204057-9057-01]

RIN 0648-WCR-A001

Pacific Halibut Fisheries; Directed Commercial Fishery

AGENCY: National Marine Fisheries Service (NMFS), National Oceanic and Atmospheric Administration (NOAA), Commerce.

ACTION: Temporary rule; inseason action.

SUMMARY: The Assistant Administrator for Fisheries, National Oceanic and Atmospheric Administration, on behalf of the International Pacific Halibut Commission, publishes notice of an inseason action pursuant to International Pacific Halibut Commission regulations approved by the Secretary of State to govern the Pacific halibut fishery. This inseason action removes the June 27, 2019, designated opening date for the Area 2A directed commercial fishery from the list of openings. This action is intended to enhance the conservation of Pacific halibut and promote safety at sea.

DATES: This action is effective May 31, 2019, through December 31, 2019.

FOR FURTHER INFORMATION CONTACT: Kathryn Blair, phone: 503-231-6858, fax: 503-231-6893, or email: kathryn.blair@noaa.gov.

SUPPLEMENTARY INFORMATION: The International Pacific Halibut Commission (IPHC), pursuant to the Convention between the Canada and the United States for the Preservation of the Halibut Fishery of the North Pacific Ocean and Bering Sea (Convention), signed at Ottawa, Ontario, on March 2, 1953, as amended by a Protocol Amending the Convention (signed at Washington, DC, on March 29, 1979), issued this inseason action pursuant to IPHC regulations governing the Pacific halibut fishery. The Secretary of State approved the regulations, including season dates, catch limits, and annual management measures in accordance with 50 CFR 300.62. NMFS published the regulations in the Federal Register on March 14, 2019 (84 FR 9243). On behalf of the IPHC, NMFS publishes the inseason action below in the Federal Register to provide additional notice of its effectiveness, and to inform fishery participants of the restrictions and requirements established in this inseason action.

IPHC News Release 2019-009 Non-Tribal Directed Commercial Fishery in IPHC Regulatory Area 2A: Fishing Period Limits for 26 June 2019 and 10 July 2019

Published 2 May 2019

The International Pacific Halibut Commission (IPHC) has established fishing period limits for the 26 June 2019 and 10 July 2019 fishing periods for the non-tribal directed commercial fishery (the fishery) in IPHC Regulatory Area 2A. The overall allocation for this fishery for 2019 is 254,426 pounds; 115.41 metric tons.

Note that the IPHC does not intend to establish fishing period limits for the 27 June 2019 fishing period listed in the Pacific Halibut Fishery Regulations (2019), and thus the fishery will not be open that day. The decision not to open on 27 June was informed by the response to a survey of fishery license holders conducted by the IPHC during April 2019.

The 26 June and 10 July fishing periods will each begin at 08:00 hrs and end at 18:00 hrs Pacific Daylight Time. The fishery is restricted to waters south of Point Chehalis, Washington (46°53.30′ N latitude). A total of 176 fishery licenses have been issued thus far for 2019, with 14 more applications currently being processed. Fishing period limits as indicated in the following table will be in effect for each of these two fishing periods:

Vessel class: Length | Vessel class: Letter | Vessel class: Number of licenses for 2019 * | Fishing period catch limit: Dressed, head-on with ice/slime (pounds) | Fishing period catch limit: Dressed, head-on with ice/slime (metric tons)
0-25 | A | 16 | 4,525 | 2.05
26-30 | B | 11 | 4,525 | 2.05
31-35 | C | 18 | 4,525 | 2.05
36-40 | D | 36 | 6,820 | 3.09
41-45 | E | 29 | 6,820 | 3.09
46-50 | F | 31 | 9,090 | 4.12
51-55 | G | 10 | 9,090 | 4.12
56+ | H | 25 | 10,225 | 4.64
* As of 2 May 2019. Note there are 14 license applications still to be processed.

The appropriate vessel length class and letter are printed on each vessel license. The fishing period limit applies to the vessel, not the individual fisher, and any landings over the vessel limit will be subject to forfeiture and fine.

The fishing period limit is shown in terms of dressed, head-on weight, and fishers are reminded that regulations require that all Pacific halibut be landed with the head naturally attached. Additionally, fishers are reminded that there is a 72-hour rule, whereby a vessel that will be used in the fishery may not be used to fish for any species of fish anywhere in IPHC Regulatory Area 2A during the 72-hour period immediately before the non-tribal directed commercial fishing period unless all catch of other species has been completely offloaded or the vessel has submitted to a hold inspection by an authorized officer prior to the start of the fishing period (see Pacific Halibut Fishery Regulations 2019, sections 20(7) and 20(8)).

NOAA Fisheries has implemented mandatory area closures that are in effect for the directed Pacific halibut fishery to protect specific rockfish species. For the exact coordinates of the closed areas, please refer to their web page: http://www.westcoast.fisheries.noaa.gov/fisheries/management/groundfish_closures/groundfish_closed_areas.html. For further information, call the NOAA Fisheries hotline at 1 800-662-9825, then press “7” for the Pacific halibut fisheries.

Following the 10 July 2019 fishing period, the IPHC may establish and announce fishing period limits for subsequent fishing periods in 2019, dependent upon allocation remaining for the fishery.

Dated: May 28, 2019.
Jennifer M. Wallace,
Acting Director, Office of Sustainable Fisheries, National Marine Fisheries Service.

[FR Doc. 2019-11444 Filed 5-31-19; 8:45 am]

BILLING CODE 3510-22-P